DEPARTMENT OF STATE

22 CFR Part 62

[Public Notice: 11538]

RIN 1400-AF38

Exchange Visitor Program—Sanctions; Notifications

AGENCY: U.S. Department of State.

ACTION: Final rule.

SUMMARY: The U.S. Department of State (Department) is amending existing Exchange Visitor Program regulations governing the manner in which the Department may accomplish service of a notice to a sponsor that is the subject of a sanction action, to include electronic mail (email) as an acceptable method of providing written notice.

DATES: This regulation is effective on October 14, 2021.

FOR FURTHER INFORMATION CONTACT: G. Kevin Saba, Director, Office of Policy and Program Support, Private Sector Exchange Directorate, Bureau of Educational and Cultural Affairs, U.S. Department of State, SA-4E, 2200 C Street NW, Washington, DC 20522-0505. Email: JExchanges@state.gov.

SUPPLEMENTARY INFORMATION: The Department oversees the Exchange Visitor Program, a federal educational and cultural exchange program, in accordance with its authorizing statute, the Mutual Educational and Cultural Exchange Act of 1961 (Fulbright-Hays Act, 22 U.S.C. 2451, et seq.). The Department, which facilitates these programs to further the foreign policy objectives of the United States, determines the suitability of public and private entities to be “designated sponsors” to conduct individual exchange programs. When the Department suspects that designated sponsors have violated the Exchange Visitor Program regulations set forth in 22 CFR part 62, it may initiate sanction actions pursuant to the sanction provisions set forth in Subpart D thereof.

In this rulemaking, the Department amends the current regulatory provision governing the service of written notice to designated sponsors by adding electronic mail to the list of acceptable means of providing such service. Current regulations limit service to three methods enumerated in 22 CFR 62.50(j)(2), i.e., delivery, mail, or facsimile. Despite advances in technology and standard business procedures, the regulations have not expanded this list for more than 30 years. In 2008, the “portable document format” (PDF) became an open file format standard. Using email with PDF attachments became a preferred means of transmitting documents because it is readily available, paperless, reliable, virtually without cost, does not require a land-line telephone connection or a fax machine, can be remotely accessed, and offers privacy not available on fax machines situated in public locations within an office suite. Most designated sponsors submit documents to the Department by attaching PDF files to email messages.

As part of the designation and redesignation application process, a sponsor must provide the Department the email addresses of its Responsible Officer and all Alternate Responsible Officers to facilitate communications between the Department and the sponsor organization. Sponsors must report changes in these email addresses to the Department within ten days (22 CFR 62.13(c)(1)). These emails will be used by the Department to serve written notice of sanctions to sponsors by electronic means. The Department's service of sanction emails will include an automatic delivery notification back to the Department.

The Department is issuing this simple regulatory clarification as a final rule since it expands the methods by which it can serve written notice in sanction actions, without eliminating any of the current options.

Regulatory Analysis and Notices

Administrative Procedure Act

The Department is issuing this rulemaking as a final rule, pursuant to 5 U.S.C. 553(b), as a rule of agency procedure or practice. In this rulemaking, the Department is adding a mechanism for providing documents to sponsors but is not removing any avenues of communication or imposing any costs. For this reason, the Department believes that notice and public comment thereon are not necessary.

Congressional Review Act

This regulation is not a major rule as defined by 5 U.S.C. 804. This rule will not result in an annual effect on the economy of $100 million or more; a major increase in costs or prices; or significant adverse effects on competition, employment, investment, productivity, innovation, or on the ability of U.S.-based companies to compete with foreign-based companies in domestic and export markets.

Unfunded Mandates Reform Act of 1995

This regulation will not result in the expenditure by State, local or tribal governments, in the aggregate, or by the private sector, of $100 million in any year, and it will not significantly or uniquely affect small governments. Therefore, no actions were deemed necessary under the provisions of the Unfunded Mandates Reform Act of 1995 (2 U.S.C. 1501 et seq.).

Executive Order 13175—Consultation and Coordination With Indian Tribal Governments

The Department has determined that this regulation will not have tribal implications; will not impose substantial direct compliance costs on Indian tribal governments; and will not preempt tribal law. Accordingly, the requirements of Executive Order 13175 do not apply to this rulemaking.

Regulatory Flexibility Act: Small Business Impacts

Since this rule is exempt from section 553 (Rulemaking) and section 554 (Adjudications) of the Administrative Procedure Act, this rule is not subject to the Regulatory Flexibility Act (5 U.S.C. 601 et seq. (1980)).

Executive Orders 12866 and 13563

The Department believes that the benefits of this rulemaking outweigh any costs, which are negligible for the public and program sponsors. The Office of Information and Regulatory Affairs has determined that this is a non-significant rule under Executive Order 12866.

Executive Order 12988

The Department has reviewed this rulemaking in light of sections 3(a) and 3(b)(2) of Executive Order 12988 to eliminate ambiguity, minimize litigation, establish clear legal standards, and reduce burdens.

Executive Orders 12372 and 13132—Federalism

The Department finds that this regulation does not have sufficient federalism implications to require consultations or warrant the preparation of a federalism summary impact statement.

Paperwork Reduction Act

This rulemaking does not create or affect any information collection that is subject to 44 U.S.C. chapter 35.

List of Subjects in 22 CFR Part 62

Cultural exchange programs, Reporting and recordkeeping requirements.

For reasons stated in the preamble, the State Department amends 22 CFR part 62 as follows:

PART 62—EXCHANGE VISITOR PROGRAM

1. The Authority citation for part 62 continues to read as follows:

Authority: 8 U.S.C. 1101(a)(15)(J), 1182, 1184, 1258; 22 U.S.C. 1431 et seq.; 22 U.S.C. 2451 et seq.; 22 U.S.C. 2651a; 22 U.S.C. 6531-6553; Reorganization Plan No. 2 of 1977, 42 FR 62461, 3 CFR, 1977 Comp. p. 200; E.O. 12048, 43 FR 13361, 3 CFR, 1978 Comp., p. 168; 8 U.S.C. 1372; section 416 of Pub. L. 107-56, 115 Stat. 354 (8 U.S.C. 1372 note); and 8 U.S.C. 1761-1762.

2. Revise § 62.50(j)(2) to read as follows:

§ 62.50 Sanctions.

* * * * *

(j) * * *

(2) Service of notice to sponsor. Service of notice to a sponsor pursuant to this section may be accomplished through written notice by mail, delivery, electronic mail, or facsimile, upon the president, chief executive officer, managing director, General Counsel, Responsible Officer, or Alternate Responsible Officer of the sponsor.

Zachary A. Parker,
Director, Office of Directives Management, Department of State.

[FR Doc. 2021-19746 Filed 9-13-21; 8:45 am]

BILLING CODE 4710-05-P